DEPARTMENT OF HOMELAND SECURITY

[Docket No. USCG-2011-0183]

National Offshore Safety Advisory Committee

AGENCY: United States Coast Guard, DHS.

ACTION: Committee Management; Notice of Federal Advisory Committee Meeting.

SUMMARY: The National Offshore Safety Advisory Committee (NOSAC) will meet on May 19, 2011 in New Orleans, Louisiana. The meeting will be open to the public.

DATES: NOSAC will meet Thursday, May 19, 2011 from 9 a.m. to 3 p.m. Please note that the meeting may close early if the committee has completed its business.

ADDRESSES: The meeting will be held at Wyndham Riverfront Hotel, Bacchus room, 701 Convention Center Boulevard, New Orleans, Louisiana 70130.

For information on facilities or services for individuals with disabilities or to request special assistance at the meeting, contact Mr. Kevin Pekarek as soon as possible.

To facilitate public participation, we are inviting public comment on the issues to be considered by the committee as listed in the “Agenda” section below. Comments must be submitted in writing no later than May 4, 2011 and must be identified by USCG-2011-0183 and may be submitted by one of the following methods:

• Federal eRulemaking Portal: http://www.regulations.gov. Follow the instructions for submitting comments.

• E-mail: Kevin.Y.Pekarek2@uscg.mil. Include the docket number in the subject line of the message.

• Fax: (202) 372-1926.

• Mail: Commander P.W. Clark, Designated Federal Officer of NOSAC, Commandant (CG-5222), U.S. Coast Guard, 2100 Second Street, SW., Stop 7126, Washington, DC 20593-0001 or Mr. Kevin Pekarek, Assistant Designated Federal Officer of NOSAC, Commandant (CG-5222), U.S. Coast Guard, 2100 Second Street, SW., Stop 7126, Washington, DC 20593-0001.

Instructions: All submissions received must include the words “Department of Homeland Security” and the docket number for this action. Comments received will be posted without alteration at http://www.regulations.gov, including any personal information provided.

Docket: For access to the docket to read documents or comments related to this Notice, go to http://www.regulations.gov.

A public comment period will be held during the meeting on May 19, 2011 from 2:40 p.m. to 2:55 p.m., and speakers are requested to limit their comments to 3 minutes. Please note that the public comment period may end before the time indicated, following the last call for comments. Contact the individual listed below to register as a speaker.

FOR FURTHER INFORMATION CONTACT: Commander P.W. Clark, Designated Federal Officer of NOSAC, Commandant (CG-5222), U.S. Coast Guard, 2100 Second Street, SW., Stop 7126, Washington, DC 20593-0001 or Mr. Kevin Pekarek, Assistant Designated Federal Officer of NOSAC, Commandant (CG-5222), U.S. Coast Guard, 2100 Second Street, SW., Stop 7126, Washington, DC 20593-0001; telephone (202) 372-1386, fax (202) 372-1926.

SUPPLEMENTARY INFORMATION: Notice of this meeting is given under the Federal Advisory Committee Act, 5 U.S.C. App. (Pub. L. 92-463). The National Offshore Safety Advisory Committee (NOSAC) provides advice to the Secretary of Homeland Security, and the Commandant of the Coast Guard on matters pertaining to and related to safety of operations and other matters affecting the oil and gas offshore industry.

Agenda

The NOSAC will meet, review and discuss reports and recommendations received from the Medical Evacuation of Injured Divers subcommittee and the Standards for Offshore Supply Vessels greater than 6,000 GT ITC. The Committee will then use this information to formulate recommendations to the agency.

A complete agenda is as follows:

(1) Roll call of committee members and determination of a quorum.

(2) Approval of minutes from the February 9, 2011 meeting.

(3) Committee Administration.

a. Introduction of new members.

b. Recommendations for Chairman and Vice Chairman.

c. Discussion of Committee By-Laws.

d. DFO announcements.

(4) Presentation and discussion of reports and recommendations from the subcommittees on:

a. Medical Evacuation of Injured Divers.

b. Standards for Offshore Supply Vessels greater than 6,000 GT ITC.

(5) Establishment of a subcommittee to work on the task of reviewing the various recommendations from the Mississippi Canyon Block 252 marine casualty reports.

(6) Establishment of a sub-committee to evaluate current CG requirements for an Offshore Installation Manager and to make recommendations on same.

(7) Update from other interagency organizations; Bureau of Ocean Energy Management Regulation and Enforcement and OSHA.

(8) Discussion on the CG's efforts to develop a policy related to the implementation of the new Advanced Notice of Arrival regulations for the Outer Continental Shelf.

(9) Discussion on the CG's collection of information effort relating to Section 703 of the Coast Guard Authorization Act—Improvements to Reduce Human Error and Near Miss Incidents.

(10) Updates on International Maritime Organization (IMO) activities of interest to the Outer Continental Shelf (OCS) community.

(11) Presentation on the Q4000 Marine Casualty and associated “near miss.”

(12) Period for public comment.

(13) Adjournment of meeting.

A copy of each report is available at the https://www.fido.gov Web site or by contacting Kevin Y. Pekarek. Use “code 68” to identify NOSAC when accessing this material. Once you have accessed the Committee page, click on the meetings tab and then the “View” button for the meeting dated May 19, 2011 to access the information for this meeting. Minutes will be available 90 days after this meeting. Both minutes and documents applicable for this meeting can also be found at an alternative site using the following web address: https://homeport.uscg.mil and use these key strokes: Missions>Port and Waterways>Safety Advisory Committee>NOSAC and then use the event key.

The meeting will be recorded by a court reporter. A transcript of the meeting and any material presented at the meeting will be made available through the https://www.fido.gov Web site.

The committee will review the information presented on each issue, deliberate on any recommendations presented in the subcommittees' reports, and formulate recommendations for the Department's consideration.

The committee will also receive tasking from CDR Patrick Clark, Designated Federal Officer, on evaluating the various recommendations from the Mississippi Canyon Block 252 marine casualty reports and evaluating current CG requirements for an Offshore Installation Manager and to make recommendations on same.

Dated: April 25, 2011.
J.G. Lantz,
Director of Commercial Regulations and Standards.

[FR Doc. 2011-10515 Filed 4-29-11; 8:45 am]

BILLING CODE 9110-04-P